ENVIRONMENTAL PROTECTION AGENCY

40 CFR Part 60

[EPA-HQ-OAR-2020-0556; FRL-8335-05-OAR]

RIN 2060-AV35

Testing Provisions for Air Emission Sources; Correction

AGENCY: Environmental Protection Agency (EPA).

ACTION: Final rule; correction.

SUMMARY: The Environmental Protection Agency (EPA) is correcting a final rule that was published in the Federal Register on March 29, 2023, that will be effective on May 30, 2023. The final rule corrected and updated regulations for source testing of emissions. This correction does not change any final action taken by the EPA on March 29, 2023; this action merely corrects the amendatory instruction.

DATES: This correction is effective May 30, 2023. On March 29, 2023, the Director of the Federal Register approved the material listed in this correction for incorporation by reference as of May 30, 2023.

ADDRESSES: The EPA has established a docket for this action under Docket ID No. EPA-HQ-OAR-2020-0556. All documents in the docket are listed on the www.regulations.gov website. Although listed in the index, some information is not publicly available, e.g., confidential business information or other information whose disclosure is restricted by statute. Certain other material, such as copyrighted material, is not placed on the internet and will be publicly available only in hard copy. Publicly available docket materials are available electronically through www.regulations.gov.

FOR FURTHER INFORMATION CONTACT: Mrs. Lula H. Melton, Office of Air Quality Planning and Standards, Air Quality Assessment Division (E143-02), Environmental Protection Agency, Research Triangle Park, NC 27711; telephone number: (919) 541-2910; fax number: (919) 541-0516; email address: melton.lula@epa.gov.

SUPPLEMENTARY INFORMATION: In the final rule published on March 29, 2023 (88 FR 18396), the following correction to an amendatory instruction to “Part 60—Standards of Performance for New Stationary Sources, Subpart A—General Provisions” is made.

Correction

In FR Doc. 2023-04956, appearing on page 18396 in the Federal Register of March 29, 2023, the following correction is made. On page 18402, in the first column, amendatory instruction 4 and the corresponding regulatory text is corrected to read as follows:

4. Amend § 60.17 by:

a. Revising paragraphs (h)(187) and (201);

b. Redesignating paragraphs (h)(202) through (222) as paragraphs (h)(203) through (223), respectively; and

c. Adding new paragraph (h)(202).

The revisions and addition read as follows:

§ 60.17 Incorporations by reference.

* * * * *

(h) * * *

(187) ASTM D6216-20, Standard Practice for Opacity Monitor Manufacturers to Certify Conformance with Design and Performance Specifications, approved September 1, 2020; IBR approved for appendix B to part 60.

* * * * *

(201) ASTM D6784-02 (Reapproved 2008), Standard Test Method for Elemental, Oxidized, Particle-Bound and Total Mercury in Flue Gas Generated from Coal-Fired Stationary Sources (Ontario Hydro Method), approved April 1, 2008; IBR approved for § 60.56c(b).

(202) ASTM D6784-16, Standard Test Method for Elemental, Oxidized, Particle-Bound and Total Mercury in Flue Gas Generated from Coal-Fired Stationary Sources (Ontario Hydro Method), approved March 1, 2016; IBR approved for appendix B to part 60.

* * * * *

Dated: May 24, 2023.
Richard A. Wayland,
Director, Air Quality Assessment Division, Office of Air Quality Planning and Standards.

[FR Doc. 2023-11407 Filed 5-26-23; 8:45 am]

BILLING CODE 6560-50-P